DEPARTMENT OF THE INTERIOR

National Park Service

Notice of Inventory Completion: Peabody Museum of Archaeology and Ethnology, Harvard University, Cambridge, MA

AGENCY: National Park Service, Interior.

ACTION: Notice.

This notice rescinds the Federal Register Notice of Intent to Repatriate Cultural Items of December 10, 2003, FR Doc. 03-30567, page 68950. This notice changes the cultural items described in the previously published notice from unassociated funerary objects to associated funerary objects and adds the human remains representing a minimum of one individual.

Notice is here given in accordance with the Native American Graves Protection and Repatriation Act (NAGPRA), 25 U.S.C. 3003, of the completion of an inventory of human remains and associated funerary objects in the possession of the Peabody Museum of Archaeology and Ethnology, Harvard University, Cambridge, MA. The human remains and associated funerary objects were removed from West Warwick, Kent County, RI.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

A detailed assessment of the human remains was made by Peabody Museum of Archaeology and Ethnology professional staff in consultation with representatives of the Narragansett Indian Tribe of Rhode Island.

In 1957, human remains representing a minimum of one individual were removed from West Warwick, Kent County, RI, by Dave Straight. The human remains were donated to the Peabody Museum of Archaeology and Ethnology by the Massachusetts Archaeological Society through Maurice Robbins later that same year. The human remains were found during the Peabody Museum of Archaeology and Ethnology's inventory process after the publication of the Notice of Intent to Repatriate Cultural Items on December 10, 2003. The two associated funerary objects are one bag of bark fragments and one box of brass kettle fragments.

This interment most likely dates to the post-contact period or later (post A.D. 1500). Copper and brass kettles were European trade items, and therefore support a post-contact temporal context for the burial. In addition, museum documentation describes the human remains as “Narragansett.” Such a specific attribution suggests that the burial dates to the Historic period. The burial context indicates that the burial was of a Native American. Oral tradition and historical documentation indicate that West Warwick, RI, is within the aboriginal and historic homeland of the Narragansett people during the Contact period. The present-day tribe representing the Narragansett people is the Narragansett Indian Tribe of Rhode Island.

Officials of the Peabody Museum of Archaeology and Ethnology have determined that, pursuant to 25 U.S.C. 3001 (9-10), the human remains listed above represent the physical remains of one individual of Native American ancestry. Officials of the Peabody Museum of Archaeology and Ethnology also have determined that, pursuant to 25 U.S.C. 3001 (3)(A), the two objects listed above are reasonably believed to have been placed with or near individual human remains at the time of death or later as part of the death rite or ceremony. Lastly, officials of the Peabody Museum of Archaeology and Ethnology have determined that, pursuant to 25 U.S.C. 3001 (2), there is a relationship of shared group identity that can be reasonably traced between the Native American human remains and associated funerary objects and the Narragansett Indian Tribe of Rhode Island.

Representatives of any other Indian tribe that believes itself to be culturally affiliated with the human remains and associated funerary objects should contact Patricia Capone, Repatriation Coordinator, Peabody Museum of Archaeology and Ethnology, Harvard University, 11 Divinity Avenue, Cambridge, MA 02138, telephone (617) 496-3702, before September 26, 2005. Repatriation of the human remains and associated funerary objects to the Narragansett Indian Tribe of Rhode Island may proceed after that date if no additional claimants come forward.

The Peabody Museum of Archaeology and Ethnology is responsible for notifying the Narragansett Indian Tribe of Rhode Island that this notice has been published.

Dated: July 22, 2005
Sherry Hutt,
Manager, National NAGPRA Program.

[FR Doc. 05-16881 Filed 8-24-05; 8:45 am]

BILLING CODE 4312-50-S